SOCIAL SECURITY ADMINISTRATION

[Docket No. SSA-2012-0006]

Social Security Ruling, SSR 13-2p; Titles II and XVI: Evaluating Cases Involving Drug Addiction and Alcoholism (DAA); Correction

AGENCY: Social Security Administration.

ACTION: Notice of Social Security Ruling; Correction.

SUMMARY: The Social Security Administration published a document in the Federal Register on February 20, 2013. (78 FR 11939).

On page 11940, in the first column, under the “CITATIONS” section, replace the period after 1614(a) with a comma, and remove the additional space between 416.927 and the comma.

On page 11941, in the “DAA Evaluation Process” chart, in step 6 b, add a period after “material”.

On page 11942, in the second column, under section e. i., first bullet, add a space between “20” and “CFR”.

On page 11943, footnote 19, replace “20 CFR 404.1527(e) and 416.927(e)” with the correct reference which is “20 CFR 404.1527(d) and 416.927(d)”.

On page 11943, footnote 20, replace “20 CFR 404.1527(f) and 416.927(f)” with the correct reference which is “20 CFR 404.1527(e) and 416.927(e)”.

On page 11944, first column, question 8. “What evidence do we need in cases involving DAA?”, a., italicize the subheading “General”, and in the first sentence add a period at the end of the sentence.

On page 11944, second column, under c. i., third sentence, hyphenate “nonmedical” to read “non-medical”.

On page 11944, third column, under c. ii, third sentence, delete “the” before “well”.

On page 11944, third column, under d. i., first sentence, hyphenate “nonmedical” to read “non-medical”.

On page 11944, footnote 22, replace “404.928” with “404.1528”.

On page 11945, second column, c. iii., second sentence, remove the extra space after “abstinence” and before the period.

On page 11946, second column, first bullet, replace the semi-colon with a period.

On page 11946, second column, under “15. How should adjudicators consider Federal district and circuit court decisions about DAA?”, first sentence, replace “20 CFR 404.1585 and 416.985” with “20 CFR 404.985 and 416.1485”, and under a., italicize the subheading “General”.

Dated: March 19, 2013.
Paul Kryglik,
Director, Office of Regulations and Reports Clearance, Social Security Administration.

[FR Doc. 2013-06594 Filed 3-21-13; 8:45 am]

BILLING CODE 4191-02-P